DEPARTMENT OF COMMERCE

International Trade Administration

University of Washington et. al; Application(s) for Duty-Free Entry of Scientific Instruments

Pursuant to section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before July 7, 2025. Address written comments to Statutory Import Programs Staff, Room 40005, U.S. Department of Commerce, Washington, DC 20230. Please also email a copy of those comments to Eva.Kim@trade.gov.

Docket Number: 25-011. Applicant: University of Washington, 4300 Roosevelt Way NE, Roosevelt Commons West, Seattle, WA 98105-4718. Instrument: Femtosecond lasers with ultrahigh power. Manufacturer: Ultronphotonics Co. Ltd, China. Intended Use: The instrument is intended to study two-dimensional materials, which are atomically thin structures with unique quantum properties. It will also be used to investigate semiconductors to better understand how they process information and energy. Justification for Duty-Free Entry: According to the applicant, there are no instruments of the same general category manufactured in the United States. Application accepted by Commissioner of Customs: March 12, 2025.

Docket Number: 25-012. Applicant: Harvard University, 60 Oxford Street, Room M01, Cambridge, MA 02138. Instrument: Narrow Linewidth Laser. Manufacturer: Shanghai Precilaser Technology Co. Ltd., China Intended Use: The instrument will be used in the construction and exploration of novel architectures for quantum information processing via a dual-species (rubidium and ytterbium), continuously reloaded atom array. Justification for Duty-Free Entry: According to the applicant, there are no instruments of the same general category manufactured in the United States. Application accepted by Commissioner of Customs: March 25, 2025.

Docket Number: 25-013. Applicant: South Dakota School of Mines and Technology, 501 E Saint Joseph St. Rapid City, SD 57701. Instrument: 2D material transfer stage with an optical microscope. Manufacturer: High Hope Zhongding Corporation, China. Intended Use: The instrument will be used to control exciton-polariton interactions in 2D material heterostructures for applications in optoelectronic, electronic devices such as photodetectors, light-emitting devices. Justification for Duty-Free Entry: According to the applicant, there are no instruments of the same general category manufactured in the United States. Application accepted by Commissioner of Customs: March 3, 2025.

Docket Number: 25-014. Applicant: William Marsh Rice University, P.O. Box 1892, MS094, Houston, TX 77251-1892. Instrument: Erbium Vacuum System. Manufacturer: Limit Vacuum Technology (Beijing) Co., Ltd., China. Intended Use: The instrument will be used to develop quantum simulation technologies to investigate fundamental quantum mechanical properties of quantum matter and potentially develop new novel quantum materials. Justification for Duty-Free Entry: According to the applicant, there are no instruments of the same general category manufactured in the United States. Application accepted by Commissioner of Customs: March 21, 2025.

Docket Number: 25-015. Applicant: California Institute of Technology, 1200 E California Blvd. Pasadena, CA 91125. Instrument:Narrow Linewidth Laser System. Manufacturer: Shanghai Precilaser Technology Co. Ltd., China. Intended Use: The instrument will be used to conduct quantum science experiments with cesium-133 atoms to demonstrate deep quantum circuits and error-corrected quantum simulation. Justification for Duty-Free Entry: According to the applicant, there are no instruments of the same general category manufactured in the United States. Application accepted by Commissioner of Customs: April 25, 2025.

Dated: June 9, 2025.
Tyler J. O'Daniel,
Acting Director, Subsidies Enforcement, Enforcement & Compliance.

[FR Doc. 2025-10949 Filed 6-13-25; 8:45 am]

BILLING CODE 3510-DS-P